DEPARTMENT OF ENERGY

Agency Information Collection Activities: Proposed Collection; Comment Request

AGENCY: Office of Civilian Radioactive Waste Management, Department of Energy.

ACTION: Agency information collection activities: proposed collection; comment request.

SUMMARY: The Office of Civilian Radioactive Waste Management (OCRWM) is soliciting comments on its proposal to request a three-year clearance by the Office of Management and Budget (OMB) for the proposed form: RW-SCWE-1, “Organization Climate and Safety Conscious Work Environment Survey.”

DATES: Comments must be filed by May 27, 2008. If you anticipate difficulty in submitting comments within that period, contact the person listed below as soon as possible.

ADDRESSES: Send comments to Mark Van Der Puy. To ensure receipt of the comments by the due date, submission by FAX (702-794-5557) or e-mail Mark_VanDerPuy@ymp.gov is recommended. The mailing address is U.S. Department of Energy, Office of Civilian Radioactive Waste Management, M/S 523 1551 Hillshire Drive, Suite A, Las Vegas, NV 89134. Alternatively, Mr. Van Der Puy may be reached by telephone at 1-800-225-6972.

FOR FURTHER INFORMATION CONTACT: Copies of the proposed form may be obtained at http://www.ocrwm.doe.gov/contact/outreach/shtml. Alternatively, requests for additional information or copies of the proposed form may be directed to Mr. Van Der Puy at the address listed above.

SUPPLEMENTARY INFORMATION:

I. Background

II. Current Actions

III. Request for Comments

I. Background

OCRWM proposes to collect information from Federal, contractor, and national laboratory employees supporting the OCRWM mission with the proposed form: RW-SCWE-1, “Organization Climate and Safety Conscious Work Environment Survey.” The purpose of this information would be to assess the organizational climate and Safety Conscious Work Environment (SCWE) as part of OCRWM's desire to continuously improve performance and comply with the employee protection requirements of 10 CFR 63.9, Employee Protection, and Section 211 of the Energy Reorganization Act of 1974, as amended (42 U.S.C. 5851).

OCRWM, as part of its effort to comply with the Paperwork Reduction Act of 1995 (Pub. L. 104-13, 44 U.S.C. Chapter 35), is providing the general public and other Federal agencies the opportunity to comment on this proposed collection of information conducted by or in conjunction with OCRWM. Any comments received will help OCRWM to prepare the data request for OMB approval to maximize the utility of the information collected and to assess the impact of collection requirements on the public. OCRWM will seek approval by OMB of the collection under Section 3507(h) of the Paperwork Reduction Act of 1995.

The proposed form: RW-SCWE-1, “Organization Climate and Safety Conscious Work Environment Survey” is designed to invite Federal, contractor, and national laboratory employees who support the OCRWM mission to provide their opinions regarding a variety of topical areas. The information collected will be analyzed, shared with the employees and other interested parties, and used in planning and assessing management actions. It is anticipated that there will be approximately 200 Federal and 1,500 contractor and national laboratory employees responding electronically. Up to 50 paper responses may be collected from employees without access to computer work stations.

II. Current Actions

The current proposed action is a request to OMB for a three-year clearance for this data collection. Comments are requested on OCRWM's proposal to request this three-year clearance to collect information with the proposed form: RW-SCWE-1, “Organization Climate and Safety Conscious Work Environment Survey,” which is available at http://ocrwm.doe.gov/contact/outreach/shtml.

III. Request for Comments

Prospective respondents and other interested parties should comment on the proposed request discussed in item II. The following guidelines are provided to assist in the preparation of comments.

General Issues

A. Is the proposed collection of information necessary for the proper performance of the functions of the agency, and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Potential respondents will be given 21 days to complete the form. Can the information be submitted by the due date?

D. The public reporting burden to complete the proposed form: RW-SCWE-1, “Organization Climate and Safety Conscious Work Environment Survey,” is estimated at 25 minutes per respondent. Data will be collected on an annual basis. The estimated burden includes the total time necessary to provide the requested information. In your opinion, how accurate is this estimate?

E. The agency estimates that there are no costs to respondents, because such respondents are employees of Federal agencies, contractors, or national laboratories funded by OCRWM. Similarly, respondents who participate in planning, administration, analysis, and developing actions in response to the information collected are also employees of those same Federal agencies, contractors, or national laboratories. In your opinion, are there other costs associated with the collection of information that OCRWM did not anticipate?

F. What additional actions could be taken to minimize the burden of this collection of information? Such actions may involve the use of automated, electronic, mechanical, or other technological collection techniques or other forms of information technology.

G. Does any other Federal, State, or local agency collect similar information? If so, specify the agency, the data element(s), and the methods of collection.

As a Potential Data User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in their entirety in the request for OMB approval of the proposed form. They also will become a matter of public record.

Statutory Authority: Sections 3507(h)(1) of the Paperwork Reduction Act of 1995 (Pub. L. No. 104-13, 44 U.S.C. Chapter 35).

Issued in Washington, DC, March 21, 2008.
Alan B. Brownstein,
Chief Operating Officer, Office of Civilian Radioactive Waste Management.

[FR Doc. E8-6138 Filed 3-25-08; 8:45 am]

BILLING CODE 6450-01-P